DEPARTMENT OF THE INTERIOR

Bureau of Land Management

[UTU 79422]

Notice of Proposed Withdrawal; Utah

AGENCY: Bureau of Land Management, Interior.

ACTION: Notice.

SUMMARY: The U.S. Department of Energy has filed an application to withdraw approximately 20,808 acres of public land for a period of 20 years, for a disposal cell for uranium mill tailings in Grand County, Utah. This notice segregates the lands for up to 2 years from location and entry under the United States mining laws subject to valid existing rights.

DATES: Comments must be received on or before February 5, 2002.

ADDRESSES: Comments should be sent to the Moab Field Office Manager, 82 East Dogwood Avenue, Moab, Utah, 84532.

FOR FURTHER INFORMATION CONTACT: Mary von Koch, Realty Specialist, Moab Field Office, 82 East Dogwood Avenue, Moab, Utah 84532, (435) 259-2128.

SUPPLEMENTARY INFORMATION: On August 30, 2001, an application was received from the Department of Energy to withdraw the following described public lands from location and entry under the United States mining laws, subject to valid existing rights:

Salt Lake Meridian

Crescent Area:

T. 21 S., R. 19 E.,

Secs. 20 and 21;

Sec. 22, those lands south of the Bookcliffs;

Sec. 23, those lands south of the Bookcliffs;

Sec. 24, lots 1 to 4, inclusive, W½E½, those lands in the NW¼ south of the Bookcliffs, and SW¼;

Secs. 25 to 29, inclusive.

The area described contains approximately 5,934 acres in Grand County.

Klondike Area:

T. 23 S., R. 19 E.,

Sec. 13, those lands in the NW¼ and S½ lying west of US Highway 191;

Sec. 14, NE¼, N½NW¼, and S½;

Secs. 20 to 23, inclusive;

Sec. 24, those lands in the NE¼ lying west of US Highway 191, W½, and SE¼;

Secs. 25 to 29, inclusive;

Secs. 33, 34, and 35.

T. 24 S., R. 19 E.,

Sec. 1, lots 1 to 4, inclusive, S½N½, SW¼, NW¼SE¼, and S½S½SE¼SE¼;

Sec. 3, lots 1 to 4, inclusive, S½N½, and S½;

Sec. 4, lots 1 to 4, inclusive, S½N½, and S½;

Sec. 10, N½;

Sec. 11, N½;

Sec. 12.

T. 23 S., R. 20 E.,

Sec. 30, lots 2, 3, and 4, and those lands in lots 7, 8, and 15 lying west of US Highway 191;

Sec. 31, lots 1 to 4, inclusive.

T. 24 S., R. 20 E.,

Sec. 6, lots 3 and 6, W½SE¼, and SE¼SE¼;

Sec. 7, lots 1 to 4, inclusive, and E½;

Sec. 8, those lands in the NE¼NW¼ and the SE¼ lying west of US Highway 191, NW¼NW¼, S½NW¼, and SW¼.

The area described contains approximately 14,874 acres in Grand County.

All persons who wish to submit comments, suggestions, or objections in connection with the proposed withdrawal may present their views in writing, by the date specified above, to the Moab Field Office Manager.

The application will be processed in accordance with the regulations set forth in 43 CFR 2300.

For a period of 2 years from the date of publication of this notice in the Federal Register, the lands will be segregated as specified above unless the application is canceled or the withdrawal is approved prior to that date.

Public meetings will be held in connection with the proposed withdrawal during the preparation of the environmental impact statement that will analyze options for disposal of the uranium tailings. A notice of the time and place will be published by the U.S. Department of Energy in the Federal Register at least 30 days before the scheduled date of the meetings.

Dated: October 10, 2001.
Margaret Wyatt,
Moab Field Office Manager.

[FR Doc. 01-27923 Filed 11-6-01; 8:45 am]

BILLING CODE 4310-DQ-P